DEPARTMENT OF HEALTH AND HUMAN SERVICES

National Institutes of Health

Center for Scientific Review; Amended Notice of Meeting

Notice is hereby given of a change in the meeting of the Center for Scientific Review Special Emphasis Panel, Fellowships: Neurodegenerative Disorders, Neuroplasticity and Cognitive Dysfunction March 05, 2026, 09:30 a.m. to March 05, 2026, 06:00 p.m., National Institutes of Health, 6701 Rockledge Drive, Bethesda, MD 20892 which was published in the Federal Register on January 12, 2026, Doc No. 91 FR 1193.

Meeting date changed from 2/10-11/26 to 3/5/26 SRO changed from Suzan Nadi to Milene Brownlow. The meeting is closed to the public.

Dated: January 21, 2026.
Bruce A. George,
Program Analyst, Office of Federal Advisory Committee Policy.

[FR Doc. 2026-01419 Filed 1-23-26; 8:45 am]

BILLING CODE 4140-01-P